DEPARTMENT OF HEALTH AND HUMAN SERVICES

Substance Abuse and Mental Health Services Administration

Center for Substance Abuse Treatment; Notice of Meeting

Pursuant to Public Law 92-463, notice is hereby given of a Teleconference Meeting of the Center for Substance Abuse Treatment (CSAT) National Advisory Council to be held in September 2005.

The meeting will include the review, discussion and evaluation of grant applications reviewed by IRGs. Therefore, the meeting will be closed to the public as determined by the SAMHSA Administrator, in accordance with Title 5 U.S.C. 552b(c)(6) and 5 U.S.C. App. 2, 10(d).

Substantive program information and a roster of Council members may be obtained by accessing the SAMHSA Advisory Council Web site (http://www.samhsa.gov), or by communicating with the contact who name and telephone number are listed below.

Committee Name: Substance Abuse and Mental Health Services Administration, Center for Substance Abuse Treatment National Advisory Council.

Meeting Date: September 7, 2005.

Place: 1 Choke Cherry Road, 5th Floor Conference Room, Rockville, MD 20857.

Type: Closed: September 7, 2005—2-4 p.m.

Contact: Cynthia Graham, M.S., NAC Executive Secretary, SAMHSA/CSAT National Advisory Council, 1 Choke Cherry Road, Room 5-1036, Rockville, MD 20857, Telephone: (240) 276-1692, FAX: (240) 276-1690, E-mail: cynthia.graham@samhsa.hhs.gov.

Dated: August 9, 2005.
Toian Vaughn,
Committee Management Officer, Substance Abuse and Mental Health Services Administration.

[FR Doc. 05-16166 Filed 8-15-05; 8:45 am]

BILLING CODE 4162-20-P